DEPARTMENT OF LABOR

Employment and Training Administration

Notice of Funding Opportunity and Solicitation for Grant Application (SGA) for Reintegration of Ex-Offenders (RExO) Adult Generation 5

AGENCY: Employment and Training Administration, Labor.

ACTION: Notice of Solicitation for Grant Applications (SGA).

Funding Opportunity Number: SGA/DFA PY 11-02.

SUMMARY: Through this notice, the Department of Labor's Employment and Training Administration (ETA) announces the availability of approximately $20.6 million to serve adult ex-offenders returning to their communities. ETA expects to award approximately 17 grants of up to $1,212,000 each for 27-months, which includes up to three months for a planning phase and a minimum of 24 months of operation. Any non-profit organization with IRS 501(c)(3) status may apply for these grants to provide pre-release and post-release services to ex-offenders returning to high-poverty, high-crime communities. These services will include job training leading to credentials for in-demand industries, employment preparation, mentoring and assistance connecting to supportive services such as housing, substance abuse programs, and mental health treatment. Applicants must describe their community's need for reentry services and the degree to which reentry is an issue in their communities; describe their program's design to provide services to adult ex-offenders that will result in employment for in-demand industries; and provide evidence of partnerships with the criminal justice system, local One-Stop Career Centers and other workforce investments programs, the local public housing authority and other providers of housing services, and of mental health and substance abuse treatment service.

The complete SGA and any subsequent SGA amendments, in connection with this solicitation is described in further detail on ETA's Web site at http://www.doleta.gov/grants/ or on http://www.grants.gov. The Web sites provide application information, eligibility requirements, review and selection procedures and other program requirements governing this solicitation.

DATES: The closing date for receipt of applications is March 13, 2012.

FOR FURTHER INFORMATION CONTACT: Brinda Ruggles, 200 Constitution Avenue NW., Room N-4716, Washington, DC 20210; Telephone: (202) 693-3437.

The Grant Officer for this SGA is Latifa Jeter.

Signed at Washington, DC, this 4th day of January, 2012.
Eric D. Luetkenhaus,
Grant Officer, Employment and Training Administration.

[FR Doc. 2012-524 Filed 1-12-12; 8:45 am]

BILLING CODE 4510-FN-P